CONSUMER PRODUCT SAFETY COMMISSION

16 CFR Part 1610

[Docket No. CPSC-2015-0007]

Petition Requesting Rulemaking To Amend the Standard for the Flammability of Clothing Textiles

AGENCY: Consumer Product Safety Commission.

ACTION: Notice of Petition for Rulemaking.

SUMMARY: The Consumer Product Safety Commission (CPSC or Commission) has received a petition requesting amendments to the test procedure in the Standard for the Flammability of Clothing Textiles, 16 CFR part 1610. Petitioner requests changes in the requirements for preparation of clothing textiles for flammability testing. The Commission invites comments concerning the petition.

DATES: The Office of the Secretary must receive comments on the petition by June 8, 2015.

ADDRESSES: You may submit comments, identified by Docket No. CPSC-2015-0007, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, insert the docket number, [ ], into the “Search” box, and follow the prompts.

FOR FURTHER INFORMATION CONTACT: Rocky Hammond, Office of the Secretary, Consumer Product Safety Commission, 4330 East West Highway, Bethesda, MD, 20814; telephone (301) 504-6833, email: rhammond@cpsc.gov.

SUPPLEMENTARY INFORMATION: On February 4, 2015, CPSC's Office of the Secretary received a petition to the Commission to initiate rulemaking to amend the test procedure in 16 CFR part 1610, Standard for the Flammability of Clothing Textiles (the Standard). Petitioner, the International Association of Users of Artificial and Synthetic Filament Yarns and of Natural Silk, asserts that the pre-test conditioning requirements for textile samples set forth in 16 CFR 1610.6(a)(2)(iv) (for plain surface textile fabrics) and 1610.6(a)(3)(v) (for raised surface textile fabrics) are inappropriate and unrealistic for silk fabrics. The Standard requires that textile specimens be prepared for testing by treating them in an oven at 105° C (221 °F) for 30 minutes, then placing them in a desiccator to cool. See 16 CFR 1610.6(a)(2)(iv); 1610.6(a)(3)(v). Petitioner contends this process removes all moisture from silk fabric samples, resulting in unrealistic measures of textile flammability. Petitioner asks that the Standard be changed to require that all clothing textile samples, including silk, be conditioned at a lower temperature and at a higher level of humidity.

Proposed Changes in Testing. Petitioner asks the Commission to adopt changes that would require all clothing textiles to be conditioned before flammability testing under the temperature and humidity conditions set forth in ASTM D1776-04, Standard Practice for Conditioning and Testing Textiles. This standard specifies that general textiles should be conditioned at a temperature of 21° ± 1° C (70° ± 2 ° F) and at a relative humidity of 65 ± 2% for at least 24 hours prior to testing. Petitioner contends flammability testing of silk fabrics would be more realistic and more meaningful if testing were conducted using these conditioning requirements. The proposed changes in pre-test conditioning would apply to all clothing textiles.

Reasons for Proposed Testing Changes. Petitioner asserts that the Standard's conditioning requirements subject silk fabric samples to “extreme conditions not found in reality” and are not based on any scientific reason. Petitioner claims its test results show that flammability testing outcomes for silk fabrics vary dramatically, depending on the conditioning standard used. Petitioner also asserts that the Standard's conditioning requirements are inconsistent with all national and international textile testing standards of which Petitioner is aware, including textile testing standards promulgated by the International Organization for Standardization (ISO) and ASTM International (ASTM). The two alternative standards specifically cited by Petitioner, ASTM D1776-04 and ISO 139, Textiles—Standard atmospheres for conditioning and testing, require conditioning of fabrics at lower temperatures and at higher levels of humidity than the Standard.

Proposed Commission Action. Petitioner requests the Commission implement the pre-test conditioning standards of ASTM D1776 by amending 16 CFR 1610.6(a)(2)(iv) (conditioning of plain surface textile fabrics) and 1610.6(a)(3)(v) (conditioning of raised surface textile fabrics) to include the conditioning standards of ASTM D1776-04 for all clothing textiles, including silk. These revisions also would include a requirement that conditioned samples be sealed in a tight container and that testing be initiated within one minute of opening of the container. Petitioner also requests that the Commission amend 16 CFR 1610.6(b) (refurbishing and testing after refurbishing) by adding a new subsection 1610.6(b)(4) to apply ASTM D1776-04 conditioning standards to flammability testing of refurbished (i.e., laundered or dry cleaned) textiles.

By this notice, the Commission seeks comments concerning this petition. Interested parties may obtain a copy of the petition by writing or calling the Office of the Secretary, Consumer Product Safety Commission, 4330 East West Highway, Bethesda, MD 20814; telephone (301) 504-6833. The petition is also available at http://www.regulations.gov under Docket No. CPSC-2015-0007, Supporting and Related Materials.

Alberta E. Mills,
Acting Secretary, Consumer Product Safety Commission.

[FR Doc. 2015-07907 Filed 4-7-15; 8:45 am]

BILLING CODE 6355-01-P